FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 11, 2011.

A. Federal Reserve Bank of Dallas (E. Ann Worthy, Vice President) 2200 North Pearl Street, Dallas, Texas 75201-2272:

1. Jonathan Ross Kasling of Hughes Springs, Texas, Individually; Mayo Givens Kasling III of Hughes Springs, Texas, Individually; Jonathan Ross Kasling of Hughes Springs, Texas; Mayo Givens Kasling III of Hughes Springs, Texas; Mayo Givens Kasling, Jr. of Hughes Springs, Texas and Mayo Givens Kasling, Jr. as Trustee for the Mayo G. Kasling III 1996 Trust and as Trustee for the Jonathan Ross Kasling 1996 Trust; Rebecca Lynn Kasling of Hughes Springs, Texas; Mayo Givens Kasling, Sr. of Hughes Springs, Texas; Catherine Denise Kasling DeWitt of Hughes Springs, Texas; Misty Morgan Lake of Hughes Springs, Texas; Randall Marc Morgan of Hughes Springs, Texas; Sarah Virginia Kasling Shelton of Hughes Springs, Texas and Sarah Virginia Kasling as Trustee for the Ricky Dub Shelton Jr. 1996 Trust and as Trustee for the Shelby Shelton 1996 Trust and as Trustee for the Trenton Shelton 1996 Trust; Roy Kemp Kasling of Austin, Texas and Roy Kemp Kasling as Trustee for the Alexandra Kasling 1996 Trust and as Trustee for the Natalie Kasling 1996 Trust; all as members of the Kasling Family Group, to retain control of 25 percent or more of the shares of Chalybeate Springs Corporation, Hughes Springs, Texas and thereby indirectly retain control of The First National Bank of Hughes Springs, Hughes Springs, Texas.

Board of Governors of the Federal Reserve System, April 21, 2011.
Robert deV. Frierson,
Deputy Secretary of the Board.

[FR Doc. 2011-10004 Filed 4-25-11; 8:45 am]

BILLING CODE 6210-01-P